NATIONAL AERONAUTICS AND SPACE ADMINISTRATION

[Notice (10-079)]

NASA Advisory Council; Aeronautics Committee; Meeting

AGENCY: National Aeronautics and Space Administration.

ACTION: Notice of meeting.

SUMMARY: In accordance with the Federal Advisory Committee Act, Public Law 92-463, as amended, the National Aeronautics and Space Administration announces a meeting of the Aeronautics Committee of the NASA Advisory Council. The meeting will be held for the purpose of soliciting from the aeronautics community and other persons research and technical information relevant to program planning.

DATES: Friday, July 30, 2010, 8 a.m. to 4 p.m. (local time).

ADDRESSES: NASA Glenn Research Center, Building 15, Small Dining/Conference Room, Cleveland, Ohio (Note that visitors will need to go to the Glenn Research Center Main Gate, to be granted access.)

FOR FURTHER INFORMATION CONTACT: Ms. Susan L. Minor, Aeronautics Research Mission Directorate, National Aeronautics and Space Administration Headquarters, Washington, DC, 20546, (202) 358-0566, or susan.l.minor@nasa.gov.

SUPPLEMENTARY INFORMATION: The meeting will be open to the public up to the capacity of the room. The agenda for the meeting includes the following topics:

• NASA Glenn Research Center Overview.

• Proposed National Research Council Study of the Aeronautics Research Mission Directorate Research Portfolio.

• Outbrief on National Research Council Committee of Experts Meeting on Validation & Verification Planning.

• Mid- and Long-Term NextGen Challenges.

It is imperative that these meetings be held on this date to accommodate the scheduling priorities of the key participants. Attendees will be requested to comply with NASA security requirements, including the presentation of a valid picture ID, before receiving an access badge. Foreign nationals attending this meeting will be required to provide a copy of their passport, visa, or green card in addition to providing the following information no less than 10 working days prior to the meeting: full name; gender; date/place of birth; citizenship; visa/green card information (number, type, expiration date); passport information (number, country, expiration date); employer/affiliation information (name of institution, address, country, phone); and title/position of attendee. To expedite admittance, attendees with U.S. citizenship can provide identifying information 3 working days in advance by contacting Linda F. Huddleston via e-mail at linda.f.huddleston@nasa.gov or by telephone at (216) 433-2205. Persons with disabilities who require assistance should indicate this. Any person interested in participating in the meeting by Webex and telephone should contact Ms. Susan L. Minor at (202) 358-0566 for the Web link, toll-free number and passcode.

Dated: July 8, 2010.
P. Diane Rausch,
Advisory Committee Management Officer, National Aeronautics and Space Administration.

[FR Doc. 2010-17201 Filed 7-14-10; 8:45 am]

BILLING CODE 7510-13-P